DEPARTMENT OF DEFENSE

Office of the Secretary

Sub Committee Meeting of the President's Commission on Care for America's Returning Wounded Warriors

AGENCY: Department of Defense.

ACTION: Federal Advisory Committee Sub Committee Meeting Notice.

SUMMARY: Pursuant to the Federal Advisory Committee Act of 1972 (5 U.S.C., Appendix, as amended), the Sunshine in the Government Act of 1976 (5 U.S.C. 552b, as amended) and 41 Code of Federal Regulations (CFR) 102-3.140 thorough 160, the Department of Defense announces the forthcoming sub committee meeting:

Subcommittees of the Commission will conduct preparatory work meetings at Ft. Bragg and Camp Lejeune, North Caroline June 19th to gather information, conduct research and analyze relevant issues and facts in preparation for a meeting of the Commission. Pursuant to section 102-3.160(a) of 41 Code of Federal Regulations (CFR), these subcommittee meetings are not open to the public, and the subcommittees are required to report their findings to the Commission for further deliberation.

Dated: May 18, 2007.
L.M. Bynum,
Alternate OSD Federal Register Liaison Officer, DoD.

[FR Doc. 07-2596 Filed 5-22-07; 10:59 am]

BILLING CODE 5001-06-M